DEPARTMENT OF COMMERCE

International Trade Administration

North American Free Trade Agreement (NAFTA), Article 1904 Binational Panel Review: Notice of Request for Panel Review

AGENCY: United States Section, NAFTA Secretariat, International Trade Administration, Department of Commerce.

ACTION: Notice of NAFTA Request for Panel Review in the matter of Certain Softwood Lumber Products From Canada: Final Affirmative Countervailing Duty Determination (Secretariat File Number: USA-CDA-2017-1904-02).

SUMMARY: A Request for Panel Review was filed on behalf of the Government of Canada, the Government of Alberta, the Government of British Columbia, the Government of Manitoba, the Government of New Brunswick, the Government of Ontario, the Government of Québec, the Government of Saskatchewan, Alberta Softwood Lumber Trade Council (“ASLTC”), British Columbia Lumber Trade Council (“BCLTC”), Conseil de l'Industrie forestiere du Québec (“CIFQ”), Ontario Forest Industries Association (“OFIA”), New Brunswick Lumber Producers (“NBLP”), Canfor Corporation (“Canfor”), J.D. Irving, Limited (“JDI”), Resolute FP Canada Inc. (“Resolute”), Tolko Marketing and Sales Ltd. and Tolko Industries Ltd. (“Tolko”), and West Fraser Mills Ltd. (“West Fraser”) with the United States Section of the NAFTA Secretariat on November 14, 2017, pursuant to NAFTA Article 1904. Panel Review was requested of the Department of Commerce's final countervailing duty determination regarding Certain Softwood Lumber Products from Canada. The final determination was published in the Federal Register on November 8, 2017 (82 FR 51814). The NAFTA Secretariat has assigned case number USA-CDA-2017-1904-02 to this request.

FOR FURTHER INFORMATION CONTACT: Paul E. Morris, United States Secretary, NAFTA Secretariat, Room 2061, 1401 Constitution Avenue NW., Washington, DC 20230, (202) 482-5438.

SUPPLEMENTARY INFORMATION: Chapter 19 of Article 1904 of NAFTA provides a dispute settlement mechanism involving trade remedy determinations issued by the Government of the United States, the Government of Canada, and the Government of Mexico. Following a Request for Panel Review, a Binational Panel is composed to review the trade remedy determination being challenged and issue a binding Panel Decision. There are established NAFTA Rules of Procedure for Article 1904 Binational Panel Reviews, which were adopted by the three governments for panels requested pursuant to Article 1904(2) of NAFTA which requires Requests for Panel Review to be published in accordance with Rule 35. For the complete Rules, please see https://www.nafta-sec-alena.org/Home/Texts-of-the-Agreement/Rules-of-Procedure/Article-1904.

The Rules provide that:

(a) A Party or interested person may challenge the final determination in whole or in part by filing a Complaint in accordance with Rule 39 within 30 days after the filing of the first Request for Panel Review (the deadline for filing a Complaint is December 14, 2017);

(b) A Party, investigating authority or interested person that does not file a Complaint but that intends to appear in support of any reviewable portion of the final determination may participate in the panel review by filing a Notice of Appearance in accordance with Rule 40 within 45 days after the filing of the first Request for Panel Review (the deadline for filing a Notice of Appearance is December 29, 2017); and

(c) The panel review shall be limited to the allegations of error of fact or law, including challenges to the jurisdiction of the investigating authority, that are set out in the Complaints filed in the panel review and to the procedural and substantive defenses raised in the panel review.

Dated: November 15, 2017.
Paul E. Morris,
U.S. Secretary, NAFTA Secretariat.

[FR Doc. 2017-25123 Filed 11-20-17; 8:45 am]

BILLING CODE 3510-DS-P